DEPARTMENT OF JUSTICE

Antitrust Division

Notice Pursuant to the National Cooperative Research and Production Act of 1993—The Open Group, L.L.C.

Notice is hereby given that, on August 22, 2025, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Abszolút.eu Kft., Budapest, REPUBLIC OF HUNGARY; Agile Architects NV, Antwerp, KINGDOM OF BELGIUM; Alvarez LLC, Leesburg, VA; Burrow Global Services, LLC, Houston, TX; Corporación Ecuatoriana para el Desarrollo de la Investigación y la Academia, Cuenca, REPUBLIC OF ECUADOR; COMROD, Inc., Westlake, OH; Curtin University, Bentley, COMMONWEALTH OF AUSTRALIA; DIGIWAVES, Ouled Fayet, REPUBLIC OF ALGERIA; IPT Global, LLC, Houston, TX; KITCO Fiber Optics, Inc., Norfolk, VA; Knowlathon IT Services Pvt. Ltd., Pune, REPUBLIC OF INDIA; Lomas Manufacturing Consulting, Carson City, NV; Maptek Pty Ltd, Glenside, COMMONWEALTH OF AUSTRALIA; Micross Components, LLC, Melville, NY; MilDef, Inc., Brea, CA; Moxa, Inc., New Taipei City, REPUBLIC OF CHINA (TAIWAN); NTIC Expertise, Tangier, KINGDOM OF MOROCCO; Parasoft Corporation, Monrovia, CA; Polywell Computers, Inc., South San Francisco, CA; Silver Palm Technologies, LLC, Ijamsville, MD; Strategical Operational Solutions Inc., Ashburn, VA; Symposit LLC, Fairfax, VA; University of Pittsburgh, Pittsburgh, PA; and Vital Learning Edge, Pendle Hill, COMMONWEALTH OF AUSTRALIA, have been added as parties to this venture.

Also, 3Pillar Global, Inc., Fairfax, VA; 4Subsea AS, Asker, KINGDOM OF NORWAY; Byanat LLC, Seeb, SULTANATE OF OMAN; Cognite AS, Lysaker, KINGDOM OF NORWAY; Department of National Defence/Ministère de la Défense National, Ottawa, CANADA; GeoMark Research, Ltd., Houston, TX; inerG, Inc., Houston, TX; Kognitus Tecnologia, Consultoria e Serviços Ltda, Rio de Janeiro, FEDERATIVE REPUBLIC OF BRAZIL; MagicOrange Group Limited, London, UNITED KINGDOM; Marathon Oil Corporation, Houston, TX; Micro Focus International Plc., Berkshire, Octopian Digital, Reston, VA; Oracle Corporation, Rocklin, CA; Phoenix International Systems, Inc., Orange, CA; Professional Petroleum Data Management Association, Calgary, CANADA; Rapita Systems Ltd, York, UNITED KINGDOM; Rubix For Information Technology, Riyadh, KINGDOM OF SAUDI ARABIA; Terma North America Inc., Warner Robins, GA; Versatile Technology, Al Qibla, STATE OF KUWAIT; and Wintershall DEA AG, Hamburg, FEDERAL REPUBLIC OF GERMANY, have withdrawn as parties to this venture.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on April 16, 2025. A notice was published in the Federal Register pursuant to section 6(b) of the Act on June 11, 2025 (90 FR 24668).

Suzanne Morris,
Deputy Director Civil Enforcement Operations, Antitrust Division.

[FR Doc. 2025-19380 Filed 10-2-25; 8:45 am]

BILLING CODE;P